DEPARTMENT OF COMMERCE

Economic Development Administration

[Docket No.: 100105005-0006-01]

Solicitation of Applications for the Community Trade Adjustment Assistance Program

AGENCY: Economic Development Administration (EDA), Department of Commerce.

ACTION: Notice and request for applications.

SUMMARY: In February of 2009, Congress enacted the Trade and Globalization Adjustment Assistance Act of 2009, which in part was intended to establish a new Community Trade Adjustment Assistance (Community TAA) Program under chapter 4 of title II of the Trade Act of 1974 (19 U.S.C. 2371 et seq.) (Trade Act) to help communities respond to the loss of jobs caused by the layoffs at firms and other types of employers impacted by trade competition. This notice announces general policies and application requirements for the Community TAA Program. Grants made under the program may be used to support a wide range of technical, planning, and infrastructure projects to help communities adapt to pressing trade impact issues and diversify their economies.

To be eligible to apply, a community must have been impacted by trade as evidenced by one or more “Cognizable Certifications” being made with respect to the community under one of the following three Trade Adjustment Assistance (TAA) programs: TAA for Workers, TAA for Firms, or TAA for Farmers. In addition, EDA must make an “Affirmative Determination” that an applicant is an “Impacted Community,” meaning that EDA determines the community is significantly affected by the threat to, or the loss of, jobs associated with one or more Cognizable Certifications. A community may rely on more than one Cognizable Certification to show trade impact, but must use the most recent certification to determine whether the community must submit as a Grandfathered Community or as Group A or B Standard Date Community. Please see below and sections III.B.2. and III.B.3 of the FFO announcement for a complete discussion. Applications for assistance from eligible communities will be competitively evaluated in order to maximize the impact of the program in creating and saving jobs.

Applicants are advised to read carefully all information and instructions contained in the Federal Funding Opportunity (FFO) announcement for this request for applications. To access the FFO announcement, please see the Web sites listed below under “Electronic Access.”

DATES: The deadline for the submission of full applications for grant assistance under this notice is April 20, 2010. Please note that this competitive solicitation has two categories of applicants: “Grandfathered Communities” and “Standard Date Communities.” In addition, the “Standard Date Communities” category has been further broken down into Groups A and B because of timing considerations. Although there is one deadline for grant applications under the program, the Trade Act requires that Grandfathered Communities and Group A Standard Date Communities must submit certain information to preserve their eligibility under the program. This information may either be submitted as part of a full application or as a preapplication using the Application for Federal Assistance (Form SF-424). The following paragraphs provide more detailed information.

Dates for Preapplication and Application Submissions: Different deadlines apply to preapplications and full applications.

Grandfathered Communities With a Cognizable Certification Made on or After January 1, 2007 and Before August 1, 2009

A Grandfathered Community must submit information for EDA's Affirmative Determination by February 1, 2010 to be eligible for funding under the Community TAA Program. Although the deadline for full applications is April 20, 2010, EDA strongly encourages Grandfathered Communities to submit their full application for grant assistance by the February 1, 2010 deadline for submission of their information for an Affirmative Determination. Submission of the full application by this date will allow EDA to make the Affirmative Determination in connection with the decision on whether EDA will fund the application. However, Grandfathered Communities that are not prepared to submit a full application by the February 1, 2010 deadline for the Affirmative Determination must submit a preapplication, using Form SF-424, by February 1, 2010. Applicants choosing to submit a preapplication still must submit a full application for grant assistance by the April 20, 2010 deadline to be considered for funding under the program.

Group A Standard Date Communities With Cognizable Certifications Made on or After August 1, 2009 Through October 21, 2009

Group A Standard Date Communities must submit information for EDA's Affirmative Determination within 180 days of the date of the community's most recent Cognizable Certification. EDA strongly encourages Group A Standard Date Communities to submit a full application for grant assistance that incorporates information necessary for EDA to make an Affirmative Determination within the statutory 180-day window. Submission of a full application within the 180-day window will allow EDA to make an Affirmative Determination in connection with the decision on whether EDA will fund the application. However, Group A Standard Date Communities that are not prepared to submit a full application within the 180-day window for an Affirmative Determination may submit a preapplication using Form SF-424, which also must include information for the Affirmative Determination, within 180 days of the date of its most recent Cognizable Certification. Applicants choosing to submit a preapplication still must submit a full application for grant assistance by the April 20, 2010 competition deadline to be considered for funding under the program.

Group B Standard Date Communities With a Cognizable Certification Made on or After October 22, 2009

Group B Standard Date Communities must submit a full application that incorporates necessary information for EDA to make an Affirmative Determination by the April 20, 2010 deadline to be considered for funding under the program. Group B Standard Date Communities do not need to submit a preapplication to preserve their eligibility because the April 20, 2010 grant application deadline occurs within their 180-day window for an Affirmative Determination.

Preapplications and full applications must be either: (a) Transmitted and time stamped at http://www.grants.gov no later than 5 p.m. (local time in the EDA regional office to which an applicant will be submitting) on the last day of the applicable preapplication or application deadline; or (b) received by the applicable EDA regional office listed below under “Addresses and Telephone Numbers for EDA's Regional Offices” and in section VIII. of the FFO announcement no later than 5 p.m. (local time in the EDA regional office to which an applicant will be submitting) on the last day of the applicable preapplication or application deadline.

ADDRESSES: Obtaining Application Packages. An applicant may obtain the appropriate preapplication or full application package electronically at http://www.grants.gov. All components of the appropriate package may be accessed and downloaded (in a screen-fillable format) at http://www.grants.gov/applicants/apply_for_grants.jsp. Alternatively, applicants eligible for assistance under this notice may request paper (hardcopy) preapplication or full application packages by contacting the applicable EDA regional office servicing your geographic area listed below under “Addresses and Telephone Numbers for EDA's Regional Offices” and in section VIII. of the FFO announcement.

Application Submission Formats: Preapplications and full applications may be submitted either (i) electronically in accordance with the procedures provided at http://www.grants.gov; or (ii) in paper format to the applicable regional office address provided below. The content of submissions is the same for paper submissions as it is for electronic submissions. EDA will not accept facsimile transmissions of preapplications or full applications. Note that EDA has regional offices in Atlanta and Philadelphia (Eastern Time); Austin and Chicago (Central Time); Denver (Mountain Time); and Seattle (Pacific Time). The regional offices and the States they serve are listed below under “Addresses and Telephone Numbers for EDA's Regional Offices” and in section VIII. of the FFO announcement. Preapplications or applications received after the applicable deadline will be considered non-responsive and will not be considered for an Affirmative Determination or for funding, respectively.

Electronic Submissions: Applicants are encouraged to submit preapplications and full applications electronically in accordance with the instructions provided at http://www.grants.gov. The preferred file format for electronic attachments is portable document format (PDF); however, EDA will accept electronic files in Microsoft Word, WordPerfect, or Microsoft Excel formats. Validation or rejection of your preapplication or application by http://www.grants.gov may take additional days after your submission. Therefore, please consider the http://www.grants.gov validation/rejection process in developing your application submission timeline. See section IV.G.1. of the FFO announcement for more information.

Applicants should access the following link for assistance in navigating http://www.grants.gov and for a list of useful resources: http://www.grants.gov/applicants/applicant_help.jsp. If you do not find an answer to your question under Frequently Asked Questions, try consulting the Applicant's User Guide. If you still cannot find an answer to your question, contact http://www.grants.gov via e-mail at support@grants.gov or telephone at 1-800-518-4726. The hours of operation for http://www.grants.gov are Monday-Friday, 7 a.m. to 9 p.m. (Eastern Time) (except for Federal holidays).

Paper Submissions: An eligible applicant under this notice may submit a completed paper preapplication or full application to the applicable EDA regional office listed below. The applicant must submit one original and two copies of the appropriate completed package via postal mail, shipped overnight, or hand-delivered to the applicable regional office, unless otherwise directed by EDA staff. Department of Commerce mail security measures may delay receipt of United States Postal Service mail for up to two weeks. Therefore, applicants who submit paper submissions are advised to use guaranteed overnight delivery services.

Addresses and Telephone Numbers for EDA's Regional Offices: Applicants in Alabama, Florida, Georgia, Kentucky, Mississippi, North Carolina, South Carolina and Tennessee, may submit paper submissions to: Economic Development Administration, Atlanta Regional Office, 401 West Peachtree Street, NW., Suite 1820, Atlanta, Georgia 30308. Telephone: (404) 730-3002, Fax: (404) 730-3025.

Applicants in Arkansas, Louisiana, New Mexico, Oklahoma and Texas, may submit paper submissions to: Economic Development Administration, Austin Regional Office, 504 Lavaca, Suite 1100, Austin, Texas 78701-2858. Telephone: (512) 381-8144, Fax: (512) 381-8177.

Applicants in Illinois, Indiana, Michigan, Minnesota, Ohio, Wisconsin and Muscatine and Scott counties, Iowa, may submit paper submissions to: Economic Development Administration, Chicago Regional Office, 111 North Canal Street, Suite 855, Chicago, Illinois 60606. Telephone: (312) 353-7706, Fax: (312) 353-8575.

Applicants in Colorado, Iowa (excluding Muscatine and Scott counties), Kansas, Missouri, Montana, Nebraska, North Dakota, South Dakota, Utah and Wyoming, may submit paper submissions to: Economic Development Administration, Denver Regional Office, 410 17th Street, Suite 250, Denver, Colorado 80202. Telephone: (303) 844-4714, Fax: (303) 844-3968.

Applicants in Connecticut, Delaware, District of Columbia, Maine, Maryland, Massachusetts, New Hampshire, New Jersey, New York, Pennsylvania, Puerto Rico, Rhode Island, Vermont, U.S. Virgin Islands, Virginia and West Virginia, may submit paper submissions to: Economic Development Administration, Philadelphia Regional Office, Curtis Center, 601 Walnut Street, Suite 140 South, Philadelphia, Pennsylvania 19106. Telephone: (215) 597-4603, Fax: (215) 597-1063.

Applicants in Alaska, American Samoa, Arizona, California, Guam, Hawaii, Idaho, Marshall Islands, Micronesia, Nevada, Northern Mariana Islands, Oregon, Republic of Palau and Washington, may submit paper submissions to: Economic Development Administration, Seattle Regional Office, Jackson Federal Building, Room 1890, 915 Second Avenue, Seattle, Washington 98174. Telephone: (206) 220-7660, Fax: (206) 220-7669.

FOR FURTHER INFORMATION CONTACT: For additional information or for a paper copy of the FFO announcement, contact the appropriate EDA regional office listed above. EDA's Internet Web site at http://www.eda.gov also contains additional information on EDA and its programs.

SUPPLEMENTARY INFORMATION: Program Information: EDA's mission is to lead the Federal economic development agenda by promoting innovation and competitiveness, preparing American regions for growth and success in the worldwide economy. The Trade and Globalization Adjustment Assistance Act of 2009, which was included as subtitle I within the American Recovery and Reinvestment Act of 2009 (Pub. L. 111-5, 123 Stat. 115, at 367), made certain changes to the Trade Act of 1974 as amended (19 U.S.C. 2341 et seq.) (Trade Act), including establishing the Community TAA Program under chapter 4 of title II of the Trade Act.

The Community TAA Program is one of several economic development programs that EDA administers and is designed to provide communities with comprehensive and flexible solutions to a wide variety of trade impacts. There currently are a number of TAA programs authorized under the Trade Act that target assistance to specific groups within and members of a community; for example workers and firms. However, the negative impacts of trade are not just felt by discrete groups; they reverberate throughout an entire community. The closure or downsizing of a key industry, company, or plant creates severe economic challenges for an entire community impacted by trade. The Community TAA Program supplements and builds upon the other TAA programs by providing comprehensive assistance to address these challenges. The overall goal of the Community TAA Program is to help communities respond holistically and proactively to trade impacts and become more competitive in the global economy. The Community TAA program will help eligible communities devise long-term Strategic Plans and carry out implementation activities to address economic development challenges in regions affected by trade impacts.

EDA publishes this notice to announce the competitive solicitation for the Community TAA Program. EDA will evaluate and select applications according to the investment policy guidelines and funding priorities set forth below under “Funding Priorities” and in section V.A. of the FFO announcement. Unless otherwise provided in this notice or in the FFO announcement, applicant eligibility, program objectives and priorities, application procedures, evaluation criteria, selection procedures, and other requirements for the Community TAA are set forth in EDA's regulations (codified at 13 CFR part 313) and applicants must address these requirements. EDA's regulations and the Trade Act are available at http://www.eda.gov/InvestmentsGrants/Lawsreg.xml.

Electronic Access: The FFO announcement for the Community TAA Program competition is available at http://www.grants.gov and at http://www.eda.gov. EDA has created a Community TAA Web page with additional information on the program at http://www.eda.gov/CommunityTAA.

Funding Availability: Under the Supplemental Appropriations Act, 2009 (Pub. L. 111-32, 123 Stat. 1859, at 1860 (2009)), funding in the amount of $40,000,000 was appropriated for both the Community TAA and TAA for Firms Programs authorized under the Trade Act, as amended by the Trade and Globalization Adjustment Assistance Act of 2009 (TGAAA). Under this notice, $36,768,000 is available for the Community TAA Program and shall remain available until September 30, 2010. In accordance with section 275 of the Trade Act (19 U.S.C. 2371d(c)), an Impacted Community may not receive more than $5,000,000 to implement a Strategic Plan developed under section 276 of the Trade Act. See also 13 CFR 313.2 for the definition of Strategic Plan. Also, in accordance with section 276(c)(2) of the Trade Act (19 U.S.C. 2371e(c)(2)), no more than $25,000,000 of the total amount appropriated for the Community TAA Program may be made available for grants to develop Strategic Plans.

Catalog of Federal Domestic Assistance (CFDA) Numbers: 11.010, Community Trade Adjustment Assistance.

Affirmative Determinations: EDA must make an Affirmative Determination that a community is an Impacted Community before the community may receive grant assistance under this program. Section 273(a) of the Trade Act (19 U.S.C. 2371b) describes the requirements for the Affirmative Determination. There are two categories of applicants under this competitive solicitation: Grandfathered Communities and Standard Date Communities. Also, please note that because of timing considerations EDA has divided the Standard Date Communities category into two groups: Group A and Group B. Different deadlines for submitting preapplications or full applications apply to each category or group of applicant. Please read the below information and section III.B. of the FFO announcement carefully to ensure that your community submits a preapplication or full application on time or can rely on one of the lists that EDA has created to ease the Affirmative Determination burden.

EDA Lists To Assist Communities With Affirmative Determination Requirements

EDA has analyzed TAA certification data and created two lists to assist communities in identifying their eligibility for the Community TAA Program: The TAA for Workers Significantly Impacted County List and the TAA for Firms Certifications List. A community that is not on either list still may request an Affirmative Determination by submitting a preapplication or full application that includes the information necessary to establish the requisite trade impact in accordance with section III.B.4. of the FFO announcement. Please note that different deadlines apply to both Grandfathered and Standard Date Communities, which are noted under “Dates for Submission of Information for Affirmative Determinations” below and section III.B.2. of the FFO announcement. If a preapplication or full application is submitted after the relevant deadlines, it will not be considered.

1. TAA for Workers Significantly Impacted County List

To assist communities in demonstrating trade impact significance, EDA has analyzed job-loss data in connection with the TAA for Workers Program. In order to assess the relative impact associated with the loss of jobs due to the trade impact leading to TAA for Workers Program Cognizable Certifications, EDA ranked counties with TAA for Workers certifications since January 1, 2007 based on the number of workers receiving assistance under the TAA for Workers Program. See the EDA Web site at http://www.eda.doc.gov/CommunityTAA for further information. Based on that analysis, EDA has determined that certain counties have experienced a significant impact attributable to job losses associated with the certifications under the TAA for Workers Program. EDA has posted the results of this analysis in a list titled “TAA for Workers Significantly Impacted County List” at http://www.eda.doc.gov/CommunityTAA. Since EDA has conducted a significance analysis on the front end, a county on the list will be deemed to have suffered a significant impact due to trade and to be an Impacted Community. Such counties may proceed to apply for an implementation grant by April 20, 2010 in accordance with sections III.C. and IV. of the FFO announcement.

2. TAA for Workers Significantly Impacted County List—Importance for Communities That Are Not Counties

Please note that EDA's TAA for Workers Significantly Impacted County List only addresses trade impact significance at the county level. For a sub-county community (for example a city or township) that is not on this list, but is located within a county on the list, EDA still must make an Affirmative Determination that the sub-county community itself is an Impacted Community that has been significantly affected by the threat to, or the loss of, jobs associated with one ore more Cognizable Certifications. Even though sub-county communities are not included on the TAA for Workers Significantly Impacted County List, the list may help a city or township, for example, identify potential eligibility for grant assistance under the Community TAA Program. For example, assume City A is located in County B, which county is located on the TAA for Workers Significantly Impacted County List. Even though City A is not automatically deemed to be an Impacted Community, being in a county that is on the list alerts City A that it might have a significant trade impact. City A should search the Department of Labor's “TAA Petition Determination” Web site at http://www.doleta.gov/tradeact/taa/taa_search_form.cfm to determine whether a TAA for Workers certification has been made in the community since January 1, 2007 and to assess the impact of any certifications in accordance with section III.B.4. of the FFO announcement, which contains detailed information on how to use TAA for Workers certifications for an Affirmative Determination.

A sub-county community located in a county on EDA's TAA for Workers Significantly Impacted County List also should note that the list includes all TAA for Workers certifications made since January 1, 2007 until the date noted on the list, which means that the list does not reflect timing concerns for Affirmative Determination purposes. When a community that wishes to apply searches the Department of Labor's “TAA Petition Determination” Web site at http://www.doleta.gov/tradeact/taa/taa_search_form.cfm, the community must be careful to note the Decision Date of the most recent TAA for Workers certification to ensure that their submission reaches EDA by the deadlines noted under paragraphs 2 and 3 of section III.B. of the FFO announcement. Using the example above, City A must determine the Decision Date of its most recent TAA for Workers certification in order to submit information for EDA's Affirmative Determination in a timely manner.

Please note that the TAA for Workers Significantly Impacted County List is not a listing of all communities that have had a TAA for Workers certification since January 1, 2007. The list is a significance analysis of those certifications, and therefore, a county or community that has had a TAA for Workers certification may find that it or the county in which it is located is not on the list. Such a community that has had a TAA for Workers certification and finds that the certification has had a significant impact on the community still may submit information for EDA's Affirmative Determination in accordance with section III.B.4. of the FFO announcement.

A note on searching the Department of Labor Web site: The Department of Labor's underlying data was organized by city, but because of the volume of data and to ensure ease of use, EDA aggregated the Department of Labor's list to the county level in creating EDA's TAA for Workers Significantly Impacted County List. Therefore, each sub-county community that is not on this list, but is located within one of the counties on the list and wishes to apply must search the Department of Labor's petition determination Web site by city and State. In addition, the community should insert a determination date range of January 1, 2007 through the present date (the date of the search) since certifications before January 1, 2007 do not establish eligibility. A community should take care to select the search option on the Web site for “Certifications” so that only approved TAA for Workers certifications appear.

EDA will post updates to the TAA for Workers Significantly Impacted County List on approximately the 20th day of each month through April 2010. As noted above, counties not on the list or other communities that are located outside counties on the list may seek an Affirmative Determination of trade impact by submitting the information necessary to establish that impact as described in section III.B.4. of the FFO announcement. Also as noted above, EDA's TAA for Workers Significantly Impacted County List includes all TAA for Workers certifications since January 1, 2007. Therefore, the list does not reflect timing concerns, and a community must search the Department of Labor's “TAA Petition Determination” Web site at http://www.doleta.gov/tradeact/taa/taa_search_form.cfm to determine the date of the community's most recent Cognizable Certification and whether the community should apply as a Grandfathered Community or a Group A or B Standard Date Community.

3. TAA for Firms Certifications List

EDA also has posted a list organized by city and State of TAA for Firms certifications since January 1, 2007 at http://www.eda.doc.gov/CommunityTAA. Because of data limitations, the TAA for Firms Certifications List does not indicate significance of trade impact and a community that has had a TAA for Firms certification still must petition for EDA's Affirmative Determination in accordance with the deadlines set out below under sections III.B.2. and III.B.3. of the FFO announcement. EDA will post updates to the TAA for Firms Certifications List on approximately the 20th day of each month through April 2010. You may contact EDA's TAA for Firms staff at taac@eda.doc.gov.

4. TAA for Farmers

As of the date of publication of this notice, there had been no certifications under the TAA for Farmers Program for the relevant time period from January 1, 2007 through the publication date of this notice. As certifications are made under the TAA for Farmers Program, the Department of Agriculture will publish notice of them in the Federal Register. More updates are available on the program Web site at http://www.fas.usda.gov/ITP/TAA/taa.asp.

Dates for Submission of Information for Affirmative Determinations

As noted above, a community that is not on EDA's TAA for Workers Significantly Impacted County List must seek an Affirmative Determination to be deemed Impacted Community. The below information details the deadlines that apply to the two categories of applicants under this competitive solicitation: Grandfathered Communities and Standard Date Communities. Also, please note that because of timing considerations EDA has divided the Standard Date Communities category into two groups: Group A and Group B.

A community may rely on more than one Cognizable Certification to show trade impact, but must use the most recent certification to determine whether the community must submit as a Grandfathered Community or as Group A or B Standard Date Community.

1. Grandfathered Communities

A Grandfathered Community is a community that had one or more Cognizable Certifications made with respect to it on or after January 1, 2007 and before August 1, 2009. See section 273(a)(2) of the Trade Act and 13 CFR 313.2. In accordance with section 273(c) of the Trade Act, a Grandfathered Community must submit information for EDA's Affirmative Determination by February 1, 2010. A Grandfathered Community that does not submit a preapplication or full application in a timely manner is not eligible for grant assistance under the Community TAA Program. Because of limited program resources, EDA encourages a Grandfathered Community to incorporate its information for EDA's Affirmative Determination along with its full application for grant assistance on the Application for Federal Assistance (Form SF-424) (checking the box for “Application” in item 1 of the form), and to submit this package by the February 1, 2010 deadline. In this case, an attachment to item 15 of the Form SF-424 must contain all information for EDA to make an Affirmative Determination in accordance with 13 CFR 313.4. See section III.B.4. of the FFO announcement for more information on the required attachment(s) and section III.C. for more information on full application packages.

If a Grandfathered Community is not prepared to submit a full application by February 1, 2010, the Grandfathered Community may preserve its eligibility by submitting a preapplication by February 1, 2010 to request an Affirmative Determination using Form SF-424 and checking “Preapplication” in item 1 of the form. The preapplication must describe the threat to, or the loss of, jobs associated with the applicable grandfathered Cognizable Certification(s) and include the information set out in section III.B.4. of the FFO announcement to allow EDA to make an Affirmative Determination. If a Grandfathered Community does not have complete information about the trade impact at the time it submits a preapplication by February 1, 2010, it may supplement the information provided with its preapplication with additional data when it submits its complete application. However, the Grandfathered Community should be aware that it must submit all information necessary for EDA's Affirmative Determination and a full grant application by the competition deadline of April 20, 2010 to be considered for grant funding under the program.

2. Standard Date Communities

A Standard Date Community is a community with its most recent Cognizable Certification made on or after August 1, 2009. Because EDA is holding a single competition for the Community TAA Program with a deadline date of April 20, 2010 and section 273 of the Trade Act requires EDA to make an Affirmative Determination of the significance of trade impact based on information submitted not later than 180 days of a community's most recent Cognizable Certification, EDA has divided Standard Date Communities into two groups: Group A and Group B. Group A consists of Standard Date Communities that have their most recent Cognizable Certification made on or after August 1, 2009 through October 21, 2009 and Group B consists of Standard Date Communities that have their most recent Cognizable Certification made on or after October 22, 2009.

Both Group A and Group B communities must submit information for EDA's Affirmative Determination within 180 days of the date of their most recent Cognizable Certification. A Group A community, however, must check the date of its most recent Cognizable Certification, and submit information for an Affirmative Determination within 180 days of that certification or else it will not be eligible for grant assistance. A Group B Standard Date Community simply must submit its full application by April 20, 2010 because its most recent Cognizable Certification was made on or after October 22, 2009, and the application filing deadline is within the 180-day window for submission of information for an Affirmative Determination. Accordingly, the full application must contain all information for EDA's Affirmative Determination by the competition deadline of April 20, 2010. Please see the paragraphs below for more detailed information.

a. Group A: Standard Date Communities With Cognizable Certifications Made on or After August 1, 2009 Through October 21, 2009

If a Standard Date Community in Group A has its most recent Cognizable Certification made on or after August 1, 2009 through October 21, 2009, it must submit information for EDA's Affirmative Determination within 180 days of the date of that certification. A Group A community that does not submit the information in a timely manner is not eligible for grant assistance under the Community TAA Program. Because of limited program resources, EDA encourages such a community to submit the information for EDA's Affirmative Determination along with its full application for grant assistance in a full application (Form SF-424, checking the box for “Application” in item 1 of the form). In this case, the attachment to item 15 of the Form SF-424 in the application must contain all information for EDA to make an Affirmative Determination in accordance with 13 CFR 313.4. See section III.B.4. of the FFO announcement for more information on the required attachment(s) and section III.C. for more information on full application packages.

If a Group A community is not prepared to submit a full application within 180 days of the applicable Cognizable Certification, the community may preserve its eligibility by submitting a preapplication requesting an Affirmative Determination using Form SF-424 and checking the box for “Preapplication” in item 1 of the form. The preapplication must describe the threat to, or the loss of, jobs associated with the community's applicable Cognizable Certification(s) and include the information set out in section III.B.4. of the FFO announcement to allow EDA to make an Affirmative Determination. If a Group A community does not have complete information about the trade impact at the time it submits a preapplication within 180 days of the relevant Cognizable Certification, it may supplement the information provided with its preapplication with additional data when it submits its full application. However, the Group A Standard Date Community should be aware that it must submit all information necessary for EDA's Affirmative Determination and a full grant application by the competition deadline of April 20, 2010 to be considered for grant funding under the program.

Note that a Standard Date Community in Group A must attend carefully to the date of its most recent Cognizable Certification because the statute requires a community to submit its information for an Affirmative Determination within 180 days of that date. Because the April 20, 2010 deadline for this competitive solicitation exceeds the 180-day time period for those communities, a Group A Standard Date Community must protect its ability to be considered under the competition by submitting a preapplication or full application before the expiration of the 180-day window. A Group B Standard Date Community with a certification made on or after October 22, 2009 does not face this complication as the April 20, 2010 deadline for the competitive solicitation is in advance of the closing of the 180-day window applicable to its most recent Cognizable Certification.

b. Group B: Standard Date Communities With Certifications Made on or After October 22, 2009

If a Standard Date Community in Group B has its most recent Cognizable Certification made after October 22, 2009, it must submit a full application by April 20, 2010. Because the compressed timeframe during which funds are available requires expeditious delivery of program resources and reduced applicant burden, EDA will make its decision regarding an Affirmative Determination based on the full application for Community TAA grant assistance for Standard Date Communities in Group B. Accordingly, the full application must contain all information for EDA to make an Affirmative Determination in accordance with 13 CFR 313.4. A community must submit a Form SF-424 and check the box for “Application” in item 1 of the form and proceed to complete and submit an appropriate application for the community's proposed project in accordance with section IV. of the FFO announcement by April 20, 2010. A community that does not timely submit its application will not be considered for funding.

3. Significance Threshold

Note that in light of the limited funding available, EDA is not likely to find job losses associated with the applicable Cognizable Certifications to be “significant” unless the community demonstrates that at least 8.25 workers per 1,000 workers in the community's most recently reported Civilian Labor Force (CLF) have been impacted by TAA Cognizable Certifications or provides other evidence of equally severe economic distress such as the imminent threat of significant job loss associated with trade. For example, if the applicant's total CLF is 50,000, EDA would deem the trade impact to be “significant” if there was a job loss of at least 413 workers in the community's CLF (413/50,000 = 0.00825 × 1,000 = 8.25) associated with the community's Cognizable Certification(s). Please see section III.B.4. of the FFO announcement for detailed information on how to collect information on and perform the significance calculation.

Affirmative Determination Substance Requirements

EDA will use Form SF-424 for both preapplications and full applications. Communities are strongly encouraged to incorporate information for EDA's Affirmative Determination into their Form SF-424 as part of a full application package. If, however, Grandfathered or Group A Standard Date Communities are not prepared to submit a full application by their Affirmative Determination deadline, then may submit a preapplication for an Affirmative Determination using Form SF-424 by the applicable Affirmative Determination deadline. If a Grandfathered or Group A Standard Date Community elects to submit a preapplication for EDA's Affirmative Determination, the applicant community must check the box for “Preapplication” in item 1 of the form and complete all numbered items on Form SF-424 except for items 17, 18, and 19. If, however, the applicant is submitting Form SF-424 as part of a full application for grant assistance, the applicant community must complete all numbered items on Form SF-424. Note that for a Grandfathered or Group A Standard Date Community that elects to submit a preapplication using Form SF-424, the community must submit a second Form SF-424 as part of its full grant application, and all items on the Form SF-424 must be completed.

For both preapplications and full applications, a community must submit the necessary information using Form SF-424 to allow EDA to determine that the applicant community is “significantly affected” by the threat to, or loss of, jobs associated with one or more Cognizable Certification(s). Item 15 of Form SF-424 allows for attachments. If a Grandfathered or Group A Standard Date Community elects to submit a preapplication, the community should provide all of the following information and attach it at Item 15 (provided however, that if complete information is not available at the time of submission of the preapplication, the community must include the information at the time of filing its full application). If the community is submitting a complete application, the community must submit all of the following and the applicant's Project Narrative and other information for a complete full application package. Please see section IV. of the FFO announcement for details on a full application.

• Identify the applicable Cognizable Certification(s) upon which the community bases its Impacted Community status for timing purposes. Please note that the community must use its most recent Cognizable Certification to determine whether it must submit as a Grandfathered Community or Group A or Group B Standard Date Community and must clearly identify that certification. For example, if City A has two TAA for Workers certifications and one TAA for Firms certification and is applying as a Group B Standard Date Community, it must use the most recent Cognizable Certification, regardless of the program, to be classified as a Group B Standard Date Community, and identify the certification and the certification's date. Note that the community must identify and discuss all Cognizable Certifications upon which it relies for eligibility as a trade-impacted community in its narrative, as described below.

○ For TAA for Workers Cognizable Certifications, the applicant community must provide the TAA petition number associated with the Department of Labor's certification decision. TAA for Workers petition determinations may be accessed and searched electronically at http://www.doleta.gov/tradeact/taa/taa_search_form.cfm.

○ For TAA for Firms Certifications, the applicant community must provide the name of the firm certified under the program in the official notification letter provided by the Department of Commerce to the certified firm. A list of firms certified since January 1, 2007 has been posted on EDA's Web site at http://www.eda.gov/CommunityTAA. EDA will post updates to the TAA for Firms Certifications List on approximately the 20th day of each month through April 2010.

○ For TAA for Farmers certifications, the applicant community must provide the name and region (region, State, or multi-State area) of the certified agricultural commodity and the record identifier provided by the Department of Agriculture. Note that as of the date of publication of this notice, no certifications had been made under the TAA for Farmers Program. Visit the TAA for Farmers Web site at http://www.fas.usda.gov/ITP/TAA/taa.asp for updates on the status of the program. In addition, the Department of Agriculture will publish all certifications made under the program in the Federal Register.

• Percentage of the CLF affected by TAA for Workers, TAA for Firms, and/or TAA for Farmers certifications. To perform this calculation, a community needs to know two things: (1) How many workers were affected by a TAA Cognizable Certification; and (2) the community's most recently reported CLF. Please see section III.B.4. of the FFO announcement for detailed instructions on how to access the information for and perform this calculation.

• The source of the CLF data the community used to complete the significance calculation.

• A narrative describing the threat to, or the loss of, jobs associated with the applicable Cognizable Certification(s). If a community is applying based on the threat to jobs associated with a Cognizable Certification, it must include solid evidence of that threat, such as a notice issued under the Worker Adjustment and Retraining Notification (WARN) Act (19 U.S.C. 2101 et seq.) or similar official statements that relate to the applicable Cognizable Certification. Unsupported company announcements, even if publicly announced, are not likely to be deemed sufficient. A community's narrative should help EDA assess the merits of the application based on the severity of trade impacts affecting the community and evaluation criteria set out in section V.A. of the FFO announcement.

The information attached at item 15 of Form SF-424 and required for EDA's Affirmative Determination may not exceed five pages in length, double-spaced text, with approximately 200 to 300 words per page. The five-page limit is an upper limit only; and applicants should be concise as possible.

Once EDA has made an Affirmative Determination, EDA will consider the community to be an Impacted Community significantly impacted by trade. Because of the compressed time schedule, Grandfathered and Group A Standard Date Communities that elect to submit a preapplication for an Affirmative Determination will then need to proceed and complete a full application for funding by April 20, 2010 to be considered for a grant. EDA will make a determination of the significance of the trade impact at the same time it decides whether to accept or decline the application for funding.

For applicants that are submitting a full application, please see section IV.C. of the FFO announcement for information on the Project Narrative, which must include information for EDA's Affirmative Determination.

Strategic Plan and Implementation Grant Assistance: Provided that EDA has made an Affirmative Determination that a community is an Impacted Community in connection with: (i) The TAA for Workers Significantly Impacted County List; (ii) a Grandfathered or Group A Standard Date Community's preapplication, or (iii) as part of the review of a community's full application, EDA will consider the Impacted Community's application for grant assistance to develop or carry out a Strategic Plan.

1. Grants To Develop Strategic Plans

Grants to develop a Strategic Plan are designed to help the Impacted Community achieve economic adjustment to trade impacts. See 13 CFR 313.6, which sets out the requirements for Strategic Plans, including requirements to ensure the involvement of private and public entities in the process and technical requirements designed to ensure that the plan analyzes current challenges and opportunities facing the Impacted Community.

EDA strongly encourages applicants to link and leverage existing planning efforts. A Strategic Plan should update and incorporate relevant provisions of existing plans that affect an Impacted Community's economic development efforts, such as an applicable Comprehensive Economic Development Strategy (CEDS) developed under EDA's regulations at 13 CFR 303.7 and strategies developed in concert with the U.S. Department of Transportation, U.S. Department of Energy, the Environmental Protection Agency, and other Federal, State, and local agencies.

2. Grants To Implement Projects or Programs in Strategic Plans

In order to award an application to implement a Strategic Plan, EDA must determine that the plan meets the requirements of section 276 of the Trade Act and EDA's implementing regulation at 13 CFR 313.6. EDA will review information submitted with the application to ensure that the proposed funding will support activities that respond to the economic dislocation attributable to the job losses that led to the Cognizable Certification(s) and to ensure that the activities are otherwise consistent with an acceptable Strategic Plan. The Impacted Community must submit its Strategic Plan for EDA's review and approval as part of its application. Note that if the community is relying on a CEDS as its Strategic Plan, it need not be re-submitted if EDA already has the current version.

Implementation grants may be provided for construction or non-construction projects. Such assistance may include: (1) Infrastructure improvements, such as site acquisition, site preparation, construction, rehabilitation, and equipping of facilities; (2) market or industry research and analysis; (3) technical assistance, including organizational development such as business networking, restructuring or improving the delivery of business services, or feasibility studies; (4) public services; (5) training; and (6) other activities justified by the Strategic Plan that satisfy applicable statutory and regulatory requirements. See 13 CFR 313.7. See section IV. of the FFO announcement for information on submitting application packages. EDA will not award grant assistance to establish revolving loan funds under the Community TAA Program.

Applicant Eligibility: Under section 271 of the Trade Act, a “community” is eligible to apply to participate in the Community TAA Program. The Trade Act defines community as “a city, county, or other political subdivision of a State or a consortium of political subdivisions of a State.” District Organizations formed and operating in accordance with 13 CFR 304.2 that coordinate and implement the economic development activities of EDA's designated Economic Development Districts (EDDs) also are eligible to apply under this notice. EDA will review the eligibility of an applicant under this notice at the time the application for assistance is received in the regional office. See section 271 of the Trade Act (19 U.S.C. 2371) and 13 CFR 313.2.

In accordance with section 273 of the Trade Act (19 U.S.C. 2371b), to receive assistance under the Community TAA Program, a community must have one or more of the Cognizable Certifications described below made with respect to it:

1. Trade Adjustment Assistance for Workers Program. A certification by the Secretary of Labor that a group of workers in the community is eligible to apply for assistance under section 223 of the Trade Act (19 U.S.C. 2273).

2. Trade Adjustment Assistance for Firms Program. A certification by the Secretary of Commerce that a firm located in the community is eligible to apply for adjustment assistance under section 251 of the Trade Act (19 U.S.C. 2341).

3. Trade Adjustment Assistance for Farmers Program. A certification by the Secretary of Agriculture that a group of agricultural commodity producers in the community is eligible to apply for adjustment assistance under section 293 of the Trade Act (19 U.S.C. 2401b).

In order for a community to be eligible to apply for grant assistance under this funding opportunity, EDA must make an Affirmative Determination that the community is “significantly affected by the threat to, or the loss of, jobs associated with any such certification.” Please note that communities may rely on more than one Cognizable Certification to show trade impact for EDA's Affirmative Determination as set out in section III.B.4. of the FFO announcement, but must use the most recent certification to determine whether the community must submit as a Grandfathered Community or as Group A or B Standard Date Community.

Once EDA has made such a determination, the community will be referred to as an Impacted Community. See section 273 of the Trade Act (19 U.S.C. 2371b) and 13 CFR 313.4. See sections III.B. and III.C. of the FFO announcement for more information on program process and timing considerations.

For-profit, private-sector entities are not eligible to apply for investment assistance under this notice.

Cost Sharing Requirement: For Strategic Plan grants, section 276(c)(1) the Trade Act (19 U.S.C. 2371e, 13 CFR 313.6(d)) provides that the Federal share of eligible costs may not exceed 75 percent. For implementation grants, section 275(d) of the Trade Act (19 U.S.C. 2371d, 13 CFR 313.7(d)) provides that the Federal share of eligible costs may not exceed 95 percent.

While cash contributions are preferred, in-kind contributions, consisting of contributions of space, equipment, or services, may provide the required non-Federal share of the total project cost. See 15 CFR 24.24. EDA will fairly evaluate all in-kind contributions, which must be eligible project costs and meet applicable Federal cost principles and uniform administrative requirements. Funds from other Federal financial assistance awards are considered matching share funds only if authorized by statute, which may be determined by EDA's reasonable interpretation of the statute. See 13 CFR 300.3. The applicant must show that the matching share is committed to the project for the project period, is and will be available as needed, and is not conditioned or encumbered in any way that precludes its use consistent with the requirements of EDA investment assistance. See 13 CFR 301.5.

Application Submission Requirements: The applicant is advised to read carefully the instructions contained in the FFO announcement for this request for applications and in all forms contained in the appropriate application package. Sections III. and IV. of the FFO announcement contain important information on application requirements and timing considerations for submitting an application. It is the sole responsibility of the applicant to ensure that the appropriate preapplication or application package is complete and received by EDA.

Strategic Plan Grant Assistance: To apply for grant assistance to develop a Strategic Plan under section 276 of the Trade Act to help the Impacted Community adjust to trade impacts, the applicant must be determined to be an Impacted Community, and must complete and submit the following:

• Form ED-900 (Application for Investment Assistance).

• Form SF-424 (Application for Federal Assistance) (Note that if the applicant is submitting a full application for a Strategic Plan grant that contains information for EDA's Affirmative Determination, it must submit only one Form-SF-424. If, however, the applicant already has submitted a Form SF-424 in connection with a preapplication, it must submit a second Form SF-424 in connection with its full application. See section IV.C.2. of the FFO announcement.

• Form SF-424A (Budget Information—Non-Construction Programs).

• Form SF-424B (Assurances—Non-Construction Programs).

• Form CD-511 (Certification Regarding Lobbying).

The applicant also may be required to provide certain lobbying information using Form SF-LLL (Disclosure of Lobbying Activities). Form ED-900 provides detailed guidance to help the applicant assess whether Form SF-LLL is required and how to access the form.

Implementation Grant Assistance: To apply for an implementation grant with construction components, an applicant must be designated as an Impacted Community, have an EDA-approved Strategic Plan, and must complete and submit the following:

• Form ED-900 (Application for Investment Assistance).

• Form SF-424 (Application for Federal Assistance) (Note that if an applicant with an existing Strategic Plan is submitting a full application for a construction implementation grant that contains information for EDA's Affirmative Determination, it must submit only one Form-SF-424. If, however, the applicant already has submitted a Form SF-424 in connection with a preapplication, it must submit a second Form SF-424 in connection with its full application. See section IV.C.2. of the FFO announcement.)

• Form SF-424C (Budget Information—Construction Programs).

• Form SF-424D (Assurances—Construction Programs).

• Form CD-511 (Certification Regarding Lobbying).

To apply for assistance for an implementation grant without construction components, an applicant must be designated as an Impacted Community, have an EDA-approved Strategic Plan, and must complete and submit the following forms:

• Form ED-900 (Application for Investment Assistance).

• Form SF-424 (Application for Federal Assistance) (Note that if the community applicant with an existing Strategic Plan is submitting a full application for a non-construction implementation grant that contains information for EDA's Affirmative Determination, it must submit only one Form-SF-424. If, however, the applicant already has submitted a Form SF-424 in connection with a preapplication, it must submit a second Form SF-424 in connection with its full application. See section IV.C.2. of the FFO announcement.)

• Form SF-424A (Budget Information—Non-Construction Programs).

• Form SF-424B (Assurances—Non-Construction Programs).

• Form CD-511 (Certification Regarding Lobbying).

Applicants for both construction and non-construction implementation grants may be required to provide certain lobbying information using Form SF-LLL (Disclosure of Lobbying Activities). The Form ED-900 provides detailed guidance to help the applicant assess whether Form SF-LLL is required and how to access it.

Project Narrative at Item 15 of Form SF-424: As noted above, the Project Narrative included in applications as an attachment to item 15 in the Form SF-424 must include a discussion of the following:

• Significance of Trade Impact.— If the applicant has not already submitted a preapplication, the narrative must include all information for EDA's Affirmative Determination as set out at section III.B.4 of the FFO announcement. See section III.B.4. of the FFO announcement to ensure all necessary information is submitted.

• Strategic Plan.— If the application is for a grant to create a Strategic Plan or update an existing Strategic Plan, the narrative must discuss how the proposed plan will be consistent section 276 of the Trade Act and 13 CFR 313.6. See also sections III.C.1. and IV.A.1. of the FFO announcement.

• Strategic Plan Implementation.—If the application is for a grant to implement a Strategic Plan, the narrative must discuss how the proposed project is consistent with that plan and describe how the proposed funding will enable the applicant to carry out activities pursuant to that plan. See also sections III.C.2. and IV.A.2. of the FFO announcement.

• Scope of Work and Anticipated Results.—The narrative must discuss what the EDA funds will support and the anticipated results.

• Project Fit with EDA Mission and Priorities.—The narrative must discuss how the proposed project satisfies the evaluation criteria set out in section V.A of the FFO announcement.

If the applicant already has submitted a preapplication for EDA's Affirmative Determination, the Project Narrative may not exceed eight pages in length, double-spaced text, with approximately 200 to 300 words per page, including any attachments, but not including the cover page. The eight-page limit is an upper limit only; therefore, applicants should be as concise as possible.

Note that if an applicant is submitting a full application for a grant application that also contains all information for EDA's Affirmative Determination, the applicant must also include the information required under section III.B.4. of the FFO announcement. The information required for EDA's Affirmative Determination may not exceed an additional five pages in length, double-spaced text, with approximately 200 to 300 words per page. The five-page limit for this information is an upper limit only; and applicants should be concise as possible. Such an applicant still has the full eight pages for its full application Project Narrative as noted above.

Content and Form of the Form ED-900: Form ED-900 is required for a full grant application to develop a Strategic Plan or implement a project in a Strategic Plan under the Community TAA Program. Based on whether an Impacted Community is submitting an application for a Strategic Plan grant or for an implementation grant, the following tables detail the sections and exhibits in Form ED-900 that an Impacted Community must complete.

Application for strategic plan grant | Required form ED-900 sections
On the initial page of Section A of Form ED-900, check that you are applying for Economic Adjustment Assistance. In section B(3)(C), check that you are applying under “Special need,” and check “Negative effects of changing trade patterns” under the “Special need” paragraph | Complete Sections A, C, E, and F and Exhibit C

Application for implementation grant | Required form ED-900 sections
On the initial page of Section A of Form ED-900, check that you are applying for Economic Adjustment Assistance. In section B(3)(C), check that you are applying under “Special need,” and check “Negative effects of changing trade patterns” under the “Special need” paragraph. | Complete Sections A, B, and K, and Exhibit C. Also complete Sections M and Exhibits A, D, and E if the application has construction components and Section N if the application has only design/engineering requirements. Complete Section E if the application has no construction components.

Intergovernmental Review: Applications for assistance under EDA's programs are subject to the State review requirements imposed by Executive Order 12372, “Intergovernmental Review of Federal Programs.”

Evaluation and Selection Procedures

1. Technical Review

Staff in EDA's regional offices will undertake a technical review of each application to ensure that all required forms, signatures, and documentation are present and that the application is in compliance with the technical requirements set out in the FFO announcement, including requirements related to Cognizable Certifications and eligibility as a community. The technical review also will help determine if the proposed project is responsive to the objectives set out in the FFO. Applications that do not meet the technical requirements set out in the FFO will not be referred to the review panel.

2. Review Panel

Each regional office will convene a panel to review the merits of each application based on the criteria set forth in the FFO. The review panel will consist of Federal employees and may consist of others recommended by the Regional Director of the applicable regional office. At least three members of the review panel will be EDA staff members. The review panel will evaluate independently and rate and rank competitively all technically sufficient applications based on the evaluation criteria listed in section V.A. of the FFO announcement.

The review panel's rating and ranking of the applications will be presented to the regional office's Investment Review Committee (IRC). After reviewing the panel's process and recommendations, the IRC may either: (i) Forward the panel's ranked list, unaltered and in its entirety, to the Selecting Official (defined below); or (ii) identify any deficiencies in the review process and direct the review panel to begin the process anew. If the IRC directs the panel to re-evaluate the applications, the review panel will undertake the process again and submit a revised rating and ranking of the applications to the IRC.

3. Selecting Official and Selecting Factors

Under this notice, the Regional Director in each regional office is the Selecting Official. EDA expects to fund the highest ranking applications. The Selecting Official will normally follow the recommendations of the review panel; however, the Selecting Official may decide not to make a selection, or may select an application out of rank order for several reasons, including:

a. A determination that the application better meets the overall objectives of sections 271 through 277 of the Trade Act (19 U.S.C. 2371—2371f);

b. Relative economic distress and financial capability of a community;

c. Availability of program funding;

d. Geographic balance in distribution of program funds;

e. Balanced funding for a diverse group of institutions, to include smaller and rural institutions, which may form part of a broader consortium to serve diverse populations and areas within the regional office's territory; or

f. The applicant's performance under previous Federal financial assistance awards.

If the Selecting Official makes a selection out of rank order, the Selecting Official will document the rationale for the decision in writing. As part of the selection process, EDA reserves the right to seek clarifications in writing from applicants for those applications deemed to have highest merit in order to facilitate the selection process. See also section V. of the FFO announcement.

Funding Priorities: EDA will give priority to applications for Strategic Plans or implementation assistance that will render the maximum amount of economic revitalization based on satisfaction of one or more of the following core criteria (investment applications that meet more than one core criterion will be given more favorable consideration):

1. Investments to small and medium-sized communities (20%). Priority will be given to an application submitted by an Impacted Community that is a small- or medium-sized community (defined as a community with a population of 100,000 or less). See section 275(e) of the Trade Act (19 U.S.C. 2371d) and 13 CFR 313.8(b).

2. Investments to assist the most severely impacted communities (20%). Priority will be given to an application based upon the extent to which a proposed project effectively responds to the severity of trade impact within an Impacted Community. For the purposes of evaluation, EDA considers counties significantly to severely impacted if they meet the thresholds outlined below:

• Significantly Impacted: More than 8.25 workers impacted in connection with TAA Cognizable Certifications per 1,000 workers in the CLF; or

• Severely Impacted: More than 28 workers impacted in connection with TAA Cognizable Certifications per 1,000 workers in the CLF.

See also 13 CFR 313.6(d) and 313.7(d)(2).

3. Investments that have a high return on investment. (20%). Priority will be given to an application that yields a high return on investment, as indicated by the extent to which it:

• Leads to the creation/retention of good jobs for the community. This is defined as greater than or equal to the average wage in the county. The Bureau of Labor Statistic's Web site at http://www.bls.gov/data/#wages has data available for this analysis.

• Leverages public-private partnerships, for example, as evident by private sector involvement and/or private sector funding in the project.

• Evidences best-practices in project management, for example, by demonstrating a feasible, cost-effective budget and a specific, deadline driven project timeline.

4. Investments that Support Regionalism, Innovation, and Entrepreneurship (20%). Priority will be given to an application that strengthens regional cluster strategies and supports innovation and entrepreneurship, as indicated by the extent to which the investment:

• Builds upon or extends existing planning documents, such as a CEDS, or other Federal, State, regional, or local development plans.

• Links clearly to a leading or emerging regional cluster. This may be measured by the extent the investment supports an industry that has a location quotient greater than one. Applicants may find more information on location quotients at the Bureau of Labor Statistic's site at http://data.bls.gov/LOCATION_QUOTIENT/servlet/lqc.ControllerServlet. This also may be demonstrated by:

○ A geographic concentration of an industry compared to the State or nation;

○ Increasing regional employment in that industry; or

○ Increasing numbers of firms in the relevant cluster.

• Fosters commercialization in technology. This could be shown by increasing technology transfer at an institution of higher education or spinning off new technology, etc.

5. Investments that Support Global Trade/Competitiveness (15%). Priority will be given to an application that supports global trade and competitiveness, as indicated by the extent to which the investment:

• Supports existing “high growth/high potential companies” or those that have the ability to create “high growth/high potential companies,” which are defined as companies with fewer than 500 employees whose sales doubled in four years or less; or

• Supports businesses or clusters with significant export potential.

6. Investments that grow the “Green Economy” (5%). Priority will be given to an application whose objectives support the “green economy.” Such projects would:

• Promote renewable energy, energy efficiency, and/or reuse, recycling, or restoration that result in a green end-product (for example, a renewable energy commercialization center);

• Green an existing process or function (for example, implementing sustainable manufacturing practices); or

• Result in a green building (for example, a structure certified under the U.S. Green Building Council's Leadership in Energy and Environmental Design (LEED) system).

Applications will be evaluated to the extent they produce identified green project benefits; for example renewable energy capacity per year, carbon emission offsets, overall energy savings, or third-party verified green building certifications.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this competitive solicitation.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), SF-424D (Assurances—Construction Programs), and Form SF-LLL (Disclosure of Lobbying Activities) has been approved under OMB Control Numbers 4040-0004, 0348-0044, 4040-0007, 4040-0008, 4040-0009, and 0348-0046 respectively. The Form CD-346 (Applicant for Funding Assistance) is approved under OMB Control Number 0605-0001. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable.

Therefore, a regulatory flexibility analysis has not been prepared.

Dated: January 6, 2010.
Brian P. McGowan,
Deputy Assistant Secretary of Commerce for Economic Development and Chief Operating Officer.

[FR Doc. 2010-273 Filed 1-8-10; 8:45 am]

BILLING CODE 3510-24-P